CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Senior Corps Project Progress Report (PPR)—OMB Control Number 3045-0033 for review and approval in accordance with the Paperwork Reduction Act of 1995. Copies of this ICR, with applicable supporting documentation, may be obtained by calling the Corporation for National and Community Service, Jill Sears, at 202-606-7577 or email to jsears@cns.gov. Individuals who use a telecommunications device for the deaf (TTY-TDD) may call 1-800-833-3722 between 8:00 a.m. and 8:00 p.m. Eastern Time, Monday through Friday.

DATES: Comments may be submitted, identified by the title of the information collection activity, within October 6, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 06/10/2016 at 81 FR 37582. This comment period ended August 9, 2016. No public comments were received from this Notice.

Description: The Senior Corps PPR has two components: (1) Narratives and work plans, and (2) the Progress Report Supplement (PRS), which is an annual survey of volunteer demographics and grantee characteristics.

Type of Review: Renewal.

Agency: Corporation for National and Community Service.

Title: Senior Corps Project Progress Report.

OMB Number: 3045-0033.

Agency Number: None.

Affected Public: Sponsors of Senior Corps grants.

Total Respondents: 1,250.

Frequency: Work plans and narratives: Semi-Annual. Progress Report Supplement: Annual.

Average Time per Response: Progress Report and Supplement: Twelve hours.

Estimated Total Burden Hours: 15,000 hours.

Total Burden Cost (capital/startup): None.

Total Burden Cost (operating/maintenance): None.

Authority: Pub. L. 104-13, (44 U.S.C. Chapter 35)

Dated: August 30, 2016.
Mikel Herrington,
Director, Senior Corps.

[FR Doc. 2016-21327 Filed 9-2-16; 8:45 am]

BILLING CODE 6050-28-P